FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011268-018.

Title: New Zealand/United States Discussion Agreement.

Parties: New Zealand/United States Container Lines Association; P&O Nedlloyd Limited; Hamburg-Süd; NYKLauritzenCool AB; Australia-New Zealand Direct Line; FESCO Ocean Management Ltd., A.P. Moller-Maersk A/S; and CP Ships USA, LLC.

Filing Party: Wayne R. Rohde, Esq.; Sher & Blackwell, LLP; 1850 M Street, NW.; Suite 900; Washington, DC 20036.

Synopsis: The amendment changes the name of LauritzenCool AB to NYK LauritzenCool AB.

Agreement No.: 011275-018.

Title: Australia/United States Discussion Agreement

Parties: A.P. Moller-Maersk A/S; Australia-New Zealand Direct Line; FESCO Ocean Management Inc.; Hamburg-Süd; NYKLauritzenCool AB; CP Ships USA, LLC; P&O Nedlloyd Limited; Safmarine Container Lines NV; and Seatrade Group NV.

Filing Party: Wayne R. Rohde, Esq.; Sher & Blackwell; 1850 M Street, NW.; Suite 900; Washington, DC 20036.

Synopsis: The amendment changes the name of LauritzenCool AB to NYKLauritzenCool AB.

Agreement No.: 011284-058.

Title: Ocean Carrier Equipment Management Association Agreement(“OCEMA”).

Parties: APL Co. Pte. Ltd.; American President Lines, Ltd.; A.P. Moller-Maersk A/S; CMA CGM, S.A.; Compania Sudamericana de Vapores, S.A.; CP Ships (USA) LLC; Evergreen Marine Corp. (Taiwan) Ltd.; Hanjin Shipping Co., Ltd.; Hamburg-Süd; Hapag-Lloyd Container Linie GmbH; Hyundai Merchant Marine Co. Ltd.; Mitsui O.S.K. Lines Ltd.; Contship Containerlines; Australia-New Zealand Direct Line; Orient Overseas Container Line Limited; P&O Nedlloyd Limited; P&O Nedlloyd B.V.; Nippon Yusen Kaisha; Yangming Marine Transport Corp.; COSCO Containerlines Company Limited; and Kawasaki Kisen Kaisha, Ltd.

Filing Party: Jeffrey F. Lawrence, Esq. and Donald J. Kassilke, Esq.; Sher & Blackwell LLP; 1850 M Street, NW.; Suite 900; Washington, DC 20036.

Synopsis: The amendment adds authority to discuss, share information and agree on matters related to the establishment and operation of equipment pools at port and inland terminals. The parties request expedited review.

Agreement No.: 011375-064.

Title: Trans-Atlantic Conference Agreement.

Parties: Atlantic Container Line AB; A.P. Moller-Maersk A/S; Hapag-Lloyd Container Linie GmbH; Mediterranean Shipping Company, S.A.; Nippon Yusen Kaisha; Orient Overseas Container Line Limited; and P&O Nedlloyd Limited.

Filing Party: Wayne R. Rohde, Esq.; Sher & Blackwell; 1850 M Street, NW.; Suite 900; Washington, DC 20036.

Synopsis: The amendment deletes obsolete references to the European Commission in Articles 5.3, 6.3, and 7.4 and corrects references to EU regulations in Article 2.2.

Agreement No.: 011392-003.

Title: LauritzenCool/Kyokuyo Discussion Agreement.

Parties: NYKLauritzenCool AB and Kyokuyo Shipping Co. Ltd.

Filing Party: Wayne R. Rohde, Esq.; Sher & Blackwell; 1850 M Street, NW.; Suite 900; Washington, DC 20036.

Synopsis: The amendment changes the name of LauritzenCool AB to NYKLauritzenCool AB.

Agreement No.: 011493-005.

Title: C&S Shipping Joint Service Agreement.

Parties: NYKLauritzenCool AB and Seatrade Group N.V.

Filing Party: Wayne R. Rohde, Esq.; Sher & Blackwell; 1850 M Street, NW.; Suite 900; Washington, DC 20036.

Synopsis: The amendment changes the name of LauritzenCool AB to NYKLauritzenCool AB.

Agreement No.: 011547-018.

Title: Eastern Mediterranean Discussion Agreement.

Parties: Farrell Lines, Inc.; COSCO Container Lines Co. Ltd.; China Shipping Container Lines Co., Ltd.; A.P. Moller-Maersk A/S; Mediterranean Shipping Company, S.A.; P&O Nedlloyd Limited; Hapag-Lloyd Container Linie GmbH; Turkon Container Transportation & Shipping, Inc.; and Zim Integrated Shipping Services, Ltd.

Filing Party: Wayne R. Rohde, Esq.; Sher & Blackwell; 1850 M Street, NW.; Suite 900; Washington, DC 20036.

Synopsis: The amendment clarifies that any two or more parties may meet and discuss agreement business and adds a new provision dealing with liability for civil penalties.

Agreement No.: 011665-007.

Title: Specialized Reefer Shipping Association.

Parties: NYKLauritzenCool AB and Seatrade Group NV.

Filing Party: Wayne R. Rohde, Esq.; Sher & Blackwell, LLP; 1850 M Street, NW.; Suite 900; Washington, DC 20036.

Synopsis: The amendment changes the name of LauritzenCool AB to NYK LauritzenCool AB and removes NYK Reefers Ltd. as a party to the agreement.

Agreement No.: 011794-004.

Title: COSCON/KL/YMUK/Hanjin/Senator Worldwide Slot Allocation & Sailing Agreement.

Parties: COSCO Container Lines Company, Limited; Kawasaki Kisen Kaisha, Ltd.; Yangming (UK) Ltd.; Hanjin Shipping Co., Ltd.; and Senator Lines GmbH.

Filing Party: Robert B. Yoshitomi, Esq.; Nixon Peabody LLP; 2040 Main Street; Suite 850; Irvine, CA 92614.

Synopsis: The amendment increases the number of vessels used under the agreement as well as the total TEU capacities.

Agreement No.: 011874-003.

Title: K-Line/Zim Space Charter Agreement.

Parties: Zim Integrated Shipping Services, Ltd. and Kawasaki Kisen Kaisha, Ltd.

Filing Party: Wayne R. Rohde, Esq.; Sher & Blackwell; 1850 M Street, NW.; Suite 900; Washington, DC 20036.

Synopsis: The amendment extends the minimum duration of the agreement through November 15, 2006.

Dated: September 16, 2005.
By Order of the Federal Maritime Commission.
Bryant L. VanBrakle,
Secretary.

[FR Doc. 05-18857 Filed 9-20-05; 8:45 am]

BILLING CODE 6730-01-P